NATIONAL COMMISSION ON LIBRARIES AND INFORMATION SCIENCE

Notice of Meetings

AGENCY: U.S. National Commission on Libraries and Information Science (NCLIS).

SUMMARY: The U.S. National Commission on Libraries and Information Science is holding an open business meeting to discuss Commission programs and administrative matters. Commissioners will review programs related to the Commission's strategic initiatives. Each of the Commission's task forces will share progress reports and the Commission will discuss future directions and activities. Topics will include: (1) American Corners; (2) Initiatives (Consumer Health Update, Battle of the Books, Family Literacy, Appraisal/Assessment, Aging); and (3) Policy Issues (Emergency Preparedness and Disaster Response, Digitization).

Date and Time: NCLIS Business Meeting—December 11, 2006, 9 a.m.-3:30 p.m.; December 12, 2006, 9 a.m.-12 p.m.

ADDRESSES: Dining Room A (December 11); Large Conference Room 642 (December 12) (Madison Building), Library of Congress, 101 Independence Avenue, SE., Washington, DC 20540-1099.

Status: Open meeting.

SUPPLEMENTARY INFORMATION: The business meeting is open to the public, subject to space availability. To make special arrangements for physically challenged persons, contact Madeleine McCain, Director of Operations, 1800 M Street, NW., Suite 350 North Tower, Washington, DC 20036, e-mail: mmccain@nclis.gov, fax 202-606-9203 or telephone 202-606-9200.

FOR FURTHER INFORMATION CONTACT: Madeleine McCain, Director of Operations, U.S. National Commission on Libraries and Information Science, 1800 M Street, NW., Suite 350 North Tower, Washington, DC 20036, e-mail: mmccain@nclis.gov, fax 202-606-9203 or telephone 202-606-9200.

Dated: November 20, 2006.
Madeleine C. McCain,
NCLIS Director of Operations.

[FR Doc. 06-9431 Filed 11-27-06; 8:45 am]

BILLING CODE 7528-01-M